DEPARTMENT OF TRANSPORTATION

Office of the Secretary

Aviation Proceedings, Agreements Filed the Week Ending August 5, 2005

The following Agreements were filed with the Department of Transportation under Sections 412 and 414 of the Federal Aviation Act, as amended (49 U.S.C. 1382 and 1384) and procedures governing proceedings to enforce these provisions. Answers may be filed within 21 days after the filing of the application.

Docket Number: OST-2005-22028.

Date Filed: August 2, 2005.

Parties: Members of the International Air Transport Association.

Subject:

Montreal, 14-16 June 2005 (Memo 0113), TC12 North Atlantic Canada-Europe Resolutions r1-r16.

Minutes PTC12 CAN-EUR (Memo 0115), Technical Correction PTC12 North-Atlantic Canada-Europe (Memo 0114).

Tables: TC12 North Atlantic Canada-Europe Specified fares, Tables (Memo 0045).

Intended effective date: 1 November 2005.

Docket Number: OST-2005-22029.

Date Filed: August 2, 2005.

Parties: Members of the International Air Transport Association.

Subject:

Mail Vote 448.

TC12 North Atlantic USA-Europe (Memo 0183) (except between USA and Austria, Belgium, Czech Republic, Finland, France, Germany, Iceland, Italy, Netherlands, Scandinavia, Switzerland).

Mail Vote 449.

TC12 North Atlantic USA-Europe (Memo 0184) (between USA and Austria, Belgium, Czech Republic, Finland, France, Germany, Italy, Netherlands, Scandinavia, Switzerland) r1-r34.

Minutes: TC12 North Atlantic Canada, USA-Europe (Memo 0185), Montreal, 14-16 June 2005.

Tables: TC12 North Atlantic USA-Europe Specified Fares Tables (Memo 0100).

Intended effective date: 1 November 2005.

Docket Number: OST-2005-22030.

Date Filed: August 2, 2005.

Parties: Members of the International Air Transport Association.

Subject:

TC2 Within Middle East Expedited Resolution 002ac (Memo 0146).

TC2 Europe-Middle East Expedited Resolution 002ab (Memo 0203).

Intended effective date: 15 August 2005.

Docket Number: OST-2005-22038.

Date Filed: August 2, 2005.

Parties: Members of the International Air Transport Association.

Subject:

PTC3 0869 Dated 2 August 2005.

Mail Vote 450—Resolution 010q.

TC3 Japan, Korea-South East Asia Special Passenger Amending Resolution between Japan and China (excluding Hong Kong SAR and Macao SAR).

Intended effective date: 5 August 2005.

Renee V. Wright,
Program Manager, Docket Operations, Federal Register Liaison.

[FR Doc. 05-16909 Filed 8-24-05; 8:45 am]

BILLING CODE 4910-62-P